DEPARTMENT OF HOMELAND SECURITY

U.S. Customs and Border Protection

Accreditation of SGS North America, Inc., as a Commercial Laboratory

AGENCY: U.S. Customs and Border Protection, Department of Homeland Security.

ACTION: Notice of accreditation of SGS North America, Inc., as a commercial laboratory.

SUMMARY: Notice is hereby given, pursuant to CBP regulations, that SGS North America, Inc., has been accredited to test petroleum, petroleum products, organic chemicals and vegetable oils for customs purposes for the next three years as of April 19, 2013.

DATES: Effective Dates: The accreditation of SGS North America, Inc., as commercial laboratory became effective on April 19, 2013. The next triennial inspection date will be scheduled for April 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.12, that SGS North America, Inc., 101 Corporate Pl, Vallejo, CA 94590, has been accredited to test petroleum, petroleum products, organic chemicals and vegetable oils for customs purposes, in accordance with the provisions of 19 CFR 151.12. Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to cbp.labhq@dhs.gov. Please reference the Web site listed below for a complete listing of CBP approved gaugers and accredited laboratories. http://cbp.gov/linkhandler/cgov/trade/basic_trade/labs_scientific_svcs/commercial_gaugers/gaulist.ctt/gaulist.pdf.

Dated: July 26, 2013.
Ira S. Reese,
Executive Director, Laboratories and Scientific Services.

[FR Doc. 2013-18486 Filed 7-31-13; 8:45 am]

BILLING CODE 9111-14-P